TENNESSEE VALLEY AUTHORITY

Sunshine Act Meeting Notice; Meeting No. 12-03; August 16, 2012

The TVA Board of Directors will hold a public meeting on August 16, 2012, in the TVA West Tower Auditorium, 400 West Summit Hill Drive, Knoxville, Tennessee. The public may comment on any agenda item or subject at a public listening session which begins at 8:30 a.m. (ET). Following the end of the public listening session, the meeting will be called to order to consider the agenda items listed below. On-site registration will be available until 15 minutes before the public listening session begins at 8:30 a.m. (ET). Pre-registered speakers will address the Board first. TVA management will answer questions from the news media following the Board meeting.

Status: Open.

Agenda Chairman's Welcome.

Old Business Approval of minutes of April 26, 2012, Board Meeting.

New Business

1. Report from President and CEO

2. Report of the Finance, Rates, and Portfolio Committee

A. FY 13 Financial Plan

B. Financial Shelf

C. Distributor Power Contract Amendment

3. Report of the Nuclear Oversight Committee

4. Report of the People and Performance Committee

5. Report of the Audit, Risk, and Regulation Committee

A. FY 13 External Auditor Selection

6. Report of the External Relations Committee

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 9, 2012.
Ralph E. Rodgers,
General Counsel and Secretary.

[FR Doc. 2012-20011 Filed 8-10-12; 4:15 pm]

BILLING CODE 8120-08-P